DEPARTMENT OF HOUSING AND URBAN DEVELOPMENT

[Docket No. FR-5480-N-69]

Notice of Submission of Proposed Information Collection to OMB; Evaluation of the Department of Housing and Urban Development's Office of University Partnerships

AGENCY: Office of the Chief Information Officer, HUD.

ACTION: Notice.

SUMMARY: The proposed information collection requirement described below has been submitted to the Office of Management and Budget (OMB) for review, as required by the Paperwork Reduction Act. The Department is soliciting public comments on the subject proposal.

The Department of Housing and Urban Development (HUD) is conducting an evaluation of four grant programs funded through HUD's Office of University Partnerships (OUP). The four OUP programs are: Historically Black Colleges and Universities (HBCU); Hispanic-Serving Institutions Assisting Communities (HSIAC); Alaskan Native/Native Hawaiian Institutions Assisting Communities (ANNHIAC); and Tribal Colleges and Universities Program (TCUP). These programs were designed to encourage and expand the growing number of partnerships formed between colleges and universities and their communities. Program grants are used to fund community development activities in disadvantaged communities and to encourage minority-serving colleges and universities to contribute their technical expertise, organizational capacity, and resources to local community development efforts.

There has been no prior evaluation of the outcomes or impacts of activities funded through OUP grants, which have an average annual value of $25 million. Therefore, this evaluation will be the first to systematically document program outcomes and to explore how factors such as partnership structure or the types of activities completed with grant funds affect outcomes for OUP grants. In addition, the study will help the Office of University Partnerships better understand the challenges that grantees face in implementing grant-funded activities. The results of the evaluation will assist the Department in designing grant programs in the future. This request is for data collection through a web survey and telephone interviews with 67 OUP grant recipients. The web survey instrument and telephone interview protocol are provided in Appendices 5 and 6, respectively. Together, the web survey and telephone interviews will be used to collect in-depth information about the activities funded with OUP grants. The web survey will be used to develop a comprehensive list of activities undertaken by grantees, and to document the partners and additional funding used to support OUP-funded activities. The telephone interviews will focus on two non-trivial activities per grantee (an activity will be considered non-trivial if more than 20 percent of grant funds from a given OUP grant were dedicated to it). The evaluation team will use the telephone interviews to collect more detailed information on the goals, accomplishments, and beneficiaries of the activities, as well as the partnership structures used to implement funded activities.

DATES: Comments Due Date: August 29, 2011.

ADDRESSES: Interested persons are invited to submit comments regarding this proposal. Comments should refer to the proposal by name and/or OMB approval Number (2528-Pending) and should be sent to: HUD Desk Officer, Office of Management and Budget, New Executive Office Building, Washington, DC 20503; e-mail OIRA-Submission@omb.eop.gov fax: 202-395-5806.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Evaluation of the Department of Housing and Urban Development's Office of University Partnerships.

OMB Approval Number: 2528-Pending.

Form Numbers: None.

Description of the Need for the Information and Its Proposed Use: The Department of Housing and Urban Development (HUD) is conducting an evaluation of four grant programs funded through HUD's Office of University Partnerships (OUP). The four OUP programs are: Historically Black Colleges and Universities (HBCU); Hispanic-Serving Institutions Assisting Communities (HSIAC); Alaskan Native/Native Hawaiian Institutions Assisting Communities (ANNHIAC); and Tribal Colleges and Universities Program (TCUP). These programs were designed to encourage and expand the growing number of partnerships formed between colleges and universities and their communities. Program grants are used to fund community development activities in disadvantaged communities and to encourage minority-serving colleges and universities to contribute their technical expertise, organizational capacity, and resources to local community development efforts.

There has been no prior evaluation of the outcomes or impacts of activities funded through OUP grants, which have an average annual value of $25 million. Therefore, this evaluation will be the first to systematically document program outcomes and to explore how factors such as partnership structure or the types of activities completed with grant funds affect outcomes for OUP grants. In addition, the study will help the Office of University Partnerships better understand the challenges that grantees face in implementing grant-funded activities. The results of the evaluation will assist the Department in designing grant programs in the future.

This request is for data collection through a web survey and telephone interviews with 67 OUP grant recipients. The web survey instrument and telephone interview protocol are provided in Appendices 5 and 6, respectively. Together, the web survey and telephone interviews will be used to collect in-depth information about the activities funded with OUP grants. The web survey will be used to develop a comprehensive list of activities undertaken by grantees, and to document the partners and additional funding used to support OUP-funded activities. The telephone interviews will focus on two non-trivial activities per grantee (an activity will be considered non-trivial if more than 20 percent of grant funds from a given OUP grant were dedicated to it). The evaluation team will use the telephone interviews to collect more detailed information on the goals, accomplishments, and beneficiaries of the activities, as well as the partnership structures used to implement funded activities.

Frequency of Submission: On occasion.

| Number of respondents | Annual responses | × | Hours per response | = | Burden hours
Reporting Burden | 67 | 2 |  | 0.664 |  | 89

Total Estimated Burden Hours: 89.

Status: New collection.

Authority: Section 3507 of the Paperwork Reduction Act of 1995, 44 U.S.C. 35, as amended.

Dated: July 25, 2011.
Colette Pollard,
Departmental Reports Management Officer, Office of the Chief Information Officer.

[FR Doc. 2011-19290 Filed 7-28-11; 8:45 am]

BILLING CODE 4210-67-P